DEPARTMENT OF TRANSPORTATION

Federal Aviation Administration

Second Meeting: Special Committee 234 (SC 234)

AGENCY: Federal Aviation Administration (FAA), U.S. Department of Transportation (DOT).

ACTION: Second meeting notice of Special Committee 234.

SUMMARY: The FAA is issuing this notice to advise the public of the second meeting of the Special Committee 234.

DATES: The meeting will be held October 7th—9th from 9:00 a.m.-5:00 p.m.

ADDRESSES: The meeting will be held at EASA, Ottoplatz 1, Cologne, Germany (CGN), Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, RTCA, Inc., khofmann@rtca.org, 202-330-0680.

SUPPLEMENTARY INFORMATION: Pursuant to section 10(a) (2) of the Federal Advisory Committee Act (Pub. L. 92-463, 5 U.S.C., App.), notice is hereby given for a meeting of the Special Committee 234. The agenda will include the following:

Wednesday, October 7, 2015—9:00am-5:00pm

1. Welcome and Administrative Remarks

2. Agenda Review and Meeting #1 Minutes Review

3. Status Report of Task-Group Leaders (TG #1-#4)

a. TG-1—General Background, Regulations, App, etc.

b. TG-2—Front Door Guidance

c. TG-3—Back Door Guidance

d. TG-4—Continuous Airworthiness

4. Review of Completeness of previous WG-99/SC-234 tasks

5. Integration of outcome into Revised ED-130 and new RTCA document structure

6. Review of program schedule

7. Any other Business

8. Date and Place of Next Meeting

9. Adjourn

Thursday, October 8, 2015—9:00am-5:00pm

1. Continuation of Plenary or Working Group Session

Friday, October 9, 2015—9:00am-11:30am

1. Continuation of Plenary or Working Group Session

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 24, 2015.
Latasha Robinson,
Management & Program Analyst, NextGen, Program Oversight and Administration, Federal Aviation Administration.

[FR Doc. 2015-16058 Filed 6-29-15; 8:45 am]

BILLING CODE 4910-13-P